DEPARTMENT OF COMMERCE

[I.D. 020105L]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Steller Sea Lion Protection Pretest Economic Survey.

Form Number(s): None.

OMB Approval Number: None.

Type of Request: Regular submission.

Burden Hours: 143.

Number of Respondents: 330.

Average Hours Per Response: 30 minutes for mail survey; 6 minutes for phone follow-up.

Needs and Uses: The objective of the pretest is to test a survey instrument that will be used to collect data for measuring the preferences, and economic values, that U.S. residents have for protecting Steller sea lions, a listed species under the Endangered Species Act. These preferences are currently not known, but are needed to improve Steller sea lion management decisions. The pretest consists of conducting a small-scale mail survey of U.S. households that will collect information needed to evaluate the survey instrument and implementation.

Affected Public: Individuals or households.

Frequency: One time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: January 28, 2005.
Gwellnar Banks,
Management Analyst, Office of the Chief Information Officer.

[FR Doc. 05-2287 Filed 2-4-05; 8:45 am]

BILLING CODE 3510-22-S